DEPARTMENT OF COMMERCE

National Oceanic and Atmospheric Administration

50 CFR Part 660

[Docket No. 240415-0107]

RTID 0648-XD112

Fisheries Off West Coast States; Coastal Pelagic Species Fisheries; Harvest Specifications for the Central Subpopulation of Northern Anchovy

AGENCY: National Marine Fisheries Service (NMFS), National Oceanic and Atmospheric Administration (NOAA), Commerce.

ACTION: Final rule.

SUMMARY: NMFS is issuing this final rule to revise the overfishing limit (OFL) and acceptable biological catch (ABC) for the central subpopulation of northern anchovy (CSNA) in the U.S. exclusive economic zone (EEZ) off the West Coast under the Coastal Pelagic Species (CPS) Fishery Management Plan (FMP) to 243,779 metric tons (mt) and an 60,945 mt, respectively. This final rule also maintains an annual catch limit (ACL) of 25,000 mt for CSNA. Under current regulations, if the ACL for this stock is reached or projected to be reached in a fishing year (January 1-December 31), then the fishery will be closed until it reopens at the start of the next fishing year. This rulemaking is intended to conserve and manage CSNA off the U.S. West Coast.

DATES: Effective May 20, 2024.

FOR FURTHER INFORMATION CONTACT: Katie Davis, West Coast Region, NMFS, (323) 372-2126, Katie.Davis@noaa.gov.

SUPPLEMENTARY INFORMATION: The CPS fishery in the U.S. EEZ off the West Coast is managed under the CPS FMP in coordination with the Pacific Fishery Management Council (Council). The CPS FMP was developed pursuant to the Magnuson-Stevens Fishery Conservation and Management Act (Magnuson-Stevens Act; 16 U.S.C. 1801 et seq.). The CPS FMP is implemented by regulations at 50 CFR part 660, subpart I. This final rule adopts, without changes, the CSNA harvest specifications in NMFS's proposed rule published on December 27, 2023 (88 FR 89358). CSNA is managed using ACLs implemented for multiple years, and quantitative or qualitative reviews of available abundance data without required regular stock assessments or required annual adjustments to target harvest levels. Further background on CSNA management and the formulas for calculating the revised reference points in this action was published in the proposed rule and is not repeated here.

Final Reference Points

This final action revises the OFL and ABC, and maintains the ACL, for CSNA in the U.S. EEZ off the West Coast, based on recommendations from the Council. NMFS is implementing multi-year annual reference points for CSNA including an OFL of 243,779 mt and an ABC of 60,945 mt. The OFL and ABC are increasing from 119,153 mt and 28,788 mt, respectively (December 31, 2020, 85 FR 86855). NMFS is maintaining, as proposed, an ACL of 25,000 mt. NMFS has determined that the OFL and ABC implemented by this action are supported by the best scientific information available, comply with the CPS FMP, and will prevent overfishing. Although these values deviate from the default calculations described in the CPS FMP, as described in the proposed rule, they are supported by the most recent stock assessment and recommendations from the Council's Scientific and Statistical Committee and are robust enough to remain in place for multiple years and still prevent overfishing.

Upon taking effect, these annual reference points will apply to the current and following calendar years (January 1-December 31), remaining in place until new scientific information warrants revising them. Any catch that has already occurred in calendar year 2024 will apply to the 2024 ACL. Because this ACL value is already in place (see 50 CFR 660.511(k)), no regulatory changes are necessary.

All sources of catch will be accounted for against the ACL, including any fishing occurring as part of an exempted fishing permit, the live bait fishery, and other minimal sources of harvest (e.g., incidental catch in CPS and non-CPS fisheries and minor directed fishing). Under current regulations at 50 CFR 660.509(a), if catch reaches the ACL, the NMFS West Coast Regional Administrator will publish a notice in the Federal Register to announce the closure of the fishery until the commencement of the next fishing season (January 1). Additionally, to ensure that the regulated community is informed of any closure, NMFS will make announcements through other means available, including emails to fishermen, processors, and state fishery management agencies.

Public Comment and Response

On December 27, 2023, NMFS published a proposed rule for this action and solicited public comments (89 FR 12810) with a public comment period that ended on January 26, 2024. NMFS received one comment letter on the proposed rule. The letter was submitted jointly by two environmental non-governmental organizations, Oceana and Earthjustice, containing several comments and requests. With respect to the proposed reference points, the commenters expressed support for an ACL of 25,000 mt and noted that the proposed OFL and ABC are consistent with the Council's recommendation. The remaining comments and requests in the comment letter are beyond the scope of this rulemaking. For instance, the comment letter included a recommendation that NMFS direct the Council to develop a substantive amendment to the CPS FMP that would incorporate the Council's anchovy management framework into the CPS FMP, develop an ACL control rule for CSNA, and establish a minimum stock size threshold for CSNA, but such measures are not within the scope of this rulemaking. Therefore, NMFS does not provide a response to those comments. However, Oceana and Earthjustice may continue to bring these requests to the Council as appropriate. Additionally, as noted earlier, Oceana and Earthjustice stated support for the ACL, but also requested NMFS limit the effectiveness of the ACL to 2 years. This request is also outside the scope of this rulemaking. Pursuant to 50 CFR 660.508, annual specifications for CPS are determined in accordance with the CPS FMP. Under the CPS FMP, reference points for CSNA are specified for multiple years until the species becomes managed under the general harvest control rule (based on annual estimates of biomass) or under a new species-specific control rule, or until new scientific information becomes available that warrants a change to the reference points.

NMFS made no changes to the proposed rule in response to the comments received.

Classification

Pursuant to section 304(b)(1)(A) of the Magnuson-Stevens Act, the NMFS Assistant Administrator has determined that this final rule is consistent with the CPS FMP, other provisions of the Magnuson-Stevens Act, and other applicable law.

This final rule is not subject to the requirements of Executive Order 12866 because it is a routine rule that implements regulations for less than one year.

Pursuant to Executive Order 13175, this rulemaking was developed after meaningful consultation and collaboration with the tribal representative on the Council.

The Chief Counsel for Regulation of the Department of Commerce certified to the Chief Counsel for Advocacy of the Small Business Administration during the proposed rule stage that this action would not have a significant economic impact on a substantial number of small entities. The factual basis for the certification was published in the proposed rule (88 FR 89358, December 27, 2023) and is not repeated here. No comments were received regarding this certification. As a result, a regulatory flexibility analysis was not required and none was prepared.

This final rule contains no information collection requirements under the Paperwork Reduction Act of 1995.

Authority: 16 U.S.C. 1801 et seq.

Dated: April 15, 2024.
Samuel D. Rauch III,
Deputy Assistant Administrator for Regulatory Programs, National Marine Fisheries Service.

[FR Doc. 2024-08342 Filed 4-18-24; 8:45 am]

BILLING CODE 3510-22-P